NATIONAL SCIENCE FOUNDATION

Sunshine Act Meetings

The National Science Board's (NSB) Committee on Strategy hereby gives notice of the scheduling of a teleconference for the transaction of National Science Board business pursuant to the National Science Foundation Act and the Government in the Sunshine Act.

TIME AND DATE: Wednesday, February 23, 2022, from 4:00-5:00 p.m. EST.

PLACE: This meeting will be held by teleconference through the National Science Foundation.

STATUS: Closed.

MATTERS TO BE CONSIDERED: The agenda is: Committee Chair's remarks; Update on NSF's FY 2022 and FY 2023 budgets.

CONTACT PERSON FOR MORE INFORMATION: Point of contact for this meeting is: Chris Blair, 703/292-7000. Meeting information and updates may be found at the National Science Board website at www.nsf.gov/nsb.

Chris Blair,
Executive Assistant to the National Science Board Office.

[FR Doc. 2022-03737 Filed 2-16-22; 4:15 pm]

BILLING CODE 7555-01-P